DEPARTMENT OF VETERANS AFFAIRS

Notice of Funding Availability

AGENCY: Department of Veterans Affairs (VA), Veterans Health Administration (VHA), VA Homeless Providers Grant and Per Diem Program.

ACTION: Notice of Funding Availability (NOFA).

SUMMARY: VA is announcing the availability of 1-year renewal funding for the 12 currently operational fiscal year (FY) 2018 VA Homeless Providers Grant and Per Diem (GPD) Program Special Need Grant recipients and their collaborative VA Special Need partners (as applicable) to submit renewal applications for assistance under the Special Need Grant component of VA's Homeless Providers GPD Program. The focus of this NOFA is to encourage applicants to continue to deliver services to the homeless Special Need Veteran population. This NOFA contains information concerning the program, application process, and amount of funding available.

DATES: An original completed signed and dated renewal application for assistance under VA's GPD Program and associated documents, must be received by the GPD Program Office by 4:00 p.m. Eastern Time on Friday, June 22, 2018. (see application requirements below).

Applications may not be sent by facsimile. In the interest of fairness to all competing applicants, this deadline is firm as to date and time, and VA will treat any application that is received after the deadline as ineligible for consideration. Applicants should make early submission of their materials to avoid any risk of loss of eligibility because of unanticipated delays or other delivery-related problems.

ADDRESSES: An original signed, dated, completed, and collated grant renewal application and all required associated documents must be submitted to the following address: VA Homeless Providers GPD Program Office, 10770 N 46th Street, Suite C-200, Tampa, Florida 33617. Applications must be received by the application deadline. Applications must arrive as a complete package. Materials arriving separately will not be included in the application package for consideration and may result in the application being rejected or not funded.

FOR FURTHER INFORMATION CONTACT: Ms. Chelsea Watson, Deputy Director, VA Homeless Providers GPD Program, Department of Veterans Affairs, 10770 N 46th Street, Suite C-200, Tampa, Florida 33617; (toll-free) 1-(877) 332-0334.

SUPPLEMENTARY INFORMATION:

Funding Opportunity Description

This NOFA announces the availability of funds to provide 1-year funding assistance in FY 2019 under VA's Homeless Providers GPD Program for the 12 operational GPD Special Need recipients, and their collaborative VA partners (as applicable). Eligible applicants may obtain grant assistance to cover additional operational costs that would not otherwise be incurred, but for the fact that the recipient is providing supportive housing beds and services for the following Special Needs homeless Veteran populations:

(1) Women;

(2) Frail elderly;

(3) Chronically mentally ill; or

(4) Individuals who have care of minor dependents.

Definitions of key terms relating to these populations are contained in 38 Code of Federal Regulations (CFR) 61.1 Definitions. Eligible applicants should review these definitions to ensure their proposed populations meet the specific requirements.

Funding applied for under this NOFA may be used for the provision of service and operational costs to facilitate the following for each targeted group:

Women

(1) Ensure transportation for women, especially for health care and educational needs; and

(2) Address safety and security issues including segregation from other program participants if deemed appropriate.

Frail Elderly

(1) Ensure the safety of the residents in the facility, including preventing harm and exploitation;

(2) Ensure opportunities to keep residents mentally and physically agile to the fullest extent through the incorporation of structured activities, physical activity, and plans for social engagement within the program and in the community;

(3) Provide opportunities for participants to address life transitional issues and separation and/or loss issues;

(4) Provide access to assistance devices, such as walkers, grippers, or other devices necessary for optimal functioning;

(5) Ensure adequate supervision, including supervision of medication and monitoring of medication compliance; and

(6) Provide opportunities for participants either directly or through referral, for other services particularly relevant for the frail elderly, including services or programs addressing emotional, social, spiritual, and generative needs.

Chronically Mentally Ill

(1) Help participants join in and engage with the community;

(2) Facilitate reintegration with the community and provide services that may optimize reintegration, such as life-skills education, recreational activities, and follow-up case management;

(3) Ensure that participants have opportunities and services for re-establishing relationships with family;

(4) Ensure adequate supervision, including supervision of medication and monitoring of medication compliance; and

(5) Provide opportunities for participants, either directly or through referral, to obtain other services particularly relevant for a chronically mentally ill population, such as vocational development, benefits management, fiduciary or money, management services, medication compliance, and medication education.

Individuals Who Have Care of Minor Dependents

(1) Ensure transportation for individuals who have care of minor dependents, and their minor dependents, especially for health care and educational needs;

(2) Provide directly or offer referrals for adequate and safe child care;

(3) Ensure children's health care needs are met, especially age-appropriate wellness visits and immunizations; and

(4) Address safety and security issues, including segregation from other program participants if deemed appropriate.

Authority: 38 United States Code §§ 2011, 2012, 2061, as implemented in regulation at 38 CFR 61.

Award Information

Overview: This NOFA announces the availability of 1-year renewal funding for use in FY 2019 for the 12 currently operational FY 2018 VA Homeless Providers GPD Program Special Need Grant recipients and their collaborative VA Special Need partners (as applicable) to submit renewal applications for assistance under the Special Need Grant component of VA's Homeless Providers GPD Program.

Funding Priorities: None.

Allocation of Funds: Approximately $3 million is available for the current Special Need grant component of VA's Homeless Providers GPD Program. Funding will be for a period beginning on October 1, 2018, and ending on September 30, 2019. The Special Need per diem payment will be the lesser of:

1. One hundred percent of the daily cost of care estimated by the Special Need grant recipient for furnishing services to homeless Veterans with Special Needs that the Special Need grant recipient certifies to be correct, minus any other sources of income; or

2. Two times the current VA State Home Program per diem rate for domiciliary care.

Special Need awards are subject to: FY 2019 funds availability; the recipient meeting the performance goals as stated in the grant application; statutory and regulatory requirements; and annual inspections.

Applicants should ensure their funding requests and operational costs are based on the 12-month period above and should be approximately in line with prior year expenditures. Requests cannot exceed the amount obligated under their FY 2018 award. Applicants should note unexpended funding from FY 2018 will be de-obligated.

Funding Actions: Applicants will be notified of any further additional information needed to confirm or clarify information provided in the application. Applicants will then be notified of the deadline to submit such information. If an applicant is unable to meet any one of the conditions for grant award within the specified time frame, VA reserves the right to not award funds to that applicant and to use the funds available for other Special Need applicants. Following receipt and confirmation that this information is accurate and in acceptable form, the applicant will execute an agreement with VA in accordance with 38 CFR 61.61.

Grant Award Period: Applicants that are selected will have a maximum of 1 year beginning on October 1, 2018, and ending on September 30, 2019, to utilize the Special Need funding. Funds unexpended after the September 30, 2019, deadline will be de-obligated.

Funding Restrictions: No part of a Special Need grant may be used for any purpose that would significantly change the scope of the specific GPD project for which a capital GPD was awarded. As a part of the review process, VA will review the original project and subsequent approved program changes of the previous FY 2016 Original Special Need applications and the FY 2018 renewal applications, to ensure significant scope changes have not occurred, displacing other homeless Veteran populations.

Note: Changes to the Special Need population the applicant currently serves will not be allowed.

Special Need funding may not be used for capital improvements, or to purchase vans or real property. However, the leasing of vans or real property may be acceptable. Questions regarding acceptability should be directed to VA's National GPD Program Office at the number listed in Contact Information. Applicants may not receive Special Need funding to replace funds provided by any Federal, state, or local Government agency or program to assist homeless persons.

Eligibility Information

To be eligible, an applicant must be a currently operational FY 2018 VA Homeless Providers GPD Program Special Need Grant recipient with or without a collaborative VA Special Need partner. If the applicant was not funded under the VA Homeless Providers GPD Program NOFA published in the Federal Register on December 23, 2016, 81 FR 94487-94494, they will be deemed ineligible for an award under this NOFA as the applicant must have an operational VA Homeless Providers GPD grant on October 1, 2018, in order to receive Special Need funding. Furthermore, if the applicant currently has a collaborative project and its VA partner no longer wishes to continue, the applicant will be ineligible for an award under this NOFA.

Cost Sharing or Matching: None.

Application Requirements and Submission Information

Content and Form of Application: Applicants should ensure that they include all required documents in their application and carefully follow the format described below. Submission of an incorrect, incomplete, or incorrectly formatted application package will result in the application being rejected at the beginning of the process. If an applicant is unable to meet any conditions for grant award within the specified time frame, VA reserves the right to not award funds and to use the funds available for other Special Need applicants.

Application Documentation Required

1. Letter from Applicant: Applicants must submit a letter on their organization's letterhead stating their intent to apply for renewal funding and agreement for VA to evaluate their previously awarded FY 2016 Special Need application and FY 2018 renewal application for scoring purposes. In addition, the letter must state the model (see listing below) to which that application will be linked and that the applicant agrees, as a condition of funding under this NOFA, that they will provide the services as outlined in that application, along with any VA-approved changes in scope, and that the applicant's FY 2016 required forms and certifications still apply for the period of this award.

Models: Bridge Housing; Low Demand; Clinical Treatment; Hospital to Housing; or Service Intensive Transitional Housing.

2. Performance Goals: Applicants must submit documentation of the applicant meeting the performance goals as stated in the FY 2016 original grant Special Need application and carried forward to their FY 2018 renewal application, as evidenced by their last VA project inspection.

3. Letter from VA Collaborative Partner (if applicable): If the FY 2016 Special Need grant was a collaborative grant, the applicant must submit an updated letter of commitment, or an updated Memorandum of Agreement (MOA) from the VA collaborative partner stating that VA will continue to meet its objectives, or provide its duties as outlined in the original MOA in FY 2016. Note: If the applicant currently has a collaborative project and its VA partner no longer wishes to continue then the applicant will be ineligible for an award under this NOFA.

Other Submission Requirements: None.

Submission Dates and Times: An original signed and dated application package, including all required documents, must be received in the GPD Program Office, VA Homeless Providers GPD Program Office, 10770 N 46th Street, Suite C-200, Tampa, Florida, 33617; by 4:00 p.m. Eastern Standard Time on Friday, June 22, 2018.

Applications must be received by the application deadline. Applications must arrive as a complete package, to include VA collaborative partner materials (see Application Requirements). Materials arriving separately will not be included in the application package for consideration and may result in the application being rejected or not funded.

In the interest of fairness to all competing applicants, this deadline is firm as to date and hour, and VA will treat any application that is received after the deadline as ineligible for consideration. Applicants should take this firm deadline into account and make early submission of their materials to avoid any risk of loss of eligibility as a result of unanticipated delays or other delivery-related problems.

Applications must be physically delivered (e.g., in person, or via United States Postal Service, FedEx, United Parcel Service, or any other type of courier). The VA GPD Program Office staff will accept the application and date stamp it immediately at the time of arrival. This is the date and time that will determine if the deadline is met for those types of delivery.

DO NOT fax or email the application as it will be treated as ineligible for consideration.

Application Review Information

A. Criteria for Special Need Grants: Rating criteria may be found at 38 CFR 61.40.

B. Review and Selection Process: Review and selection process may be found at 38 CFR 61.40.

Selections will be made based on criteria described in the FY 2016 application and additional information as specified in this NOFA.

Award Notice: Although subject to change, the GPD Program Office expects to announce grant awards during the late fourth quarter of FY 2018 (September). The initial announcement will be made via news release which will be posted on VA's National GPD Program website at www.va.gov/homeless/gpd.asp. Following the initial announcement, the GPD Office will mail notification letters to the grant recipients. Applicants who are not selected will be mailed a declination letter within 2 weeks of the initial announcement.

Administrative and National Policy: It is important to be aware that VA places great emphasis on responsibility and accountability. VA has procedures in place to monitor services provided to homeless Veterans and outcomes associated with the services provided in grant and per diem-funded programs. Applicants should be aware of the following:

Awardees will be required to support their request for payments with adequate fiscal documentation as to income and expenses.

All awardees that are selected in response to this NOFA must meet the requirements of the current edition of the Life Safety Code of the National Fire Protection Association as it relates to their specific facility. Applicants should note that all facilities are to be protected throughout by an approved automatic sprinkler system unless a facility is specifically exempted under the Life Safety Code. Applicants should consider this when submitting their grant applications, as no additional funds will be made available for capital improvements under this NOFA.

Each program receiving Special Need funding will have a liaison appointed from a nearby VA medical facility to provide oversight and monitor services provided to homeless Veterans in the program.

Monitoring will include at a minimum, a quarterly review of each per diem program's progress toward meeting performance goals, including the applicant's internal goals and objectives in helping Veterans attain housing stability, adequate income support, and self-sufficiency as identified in each per diem program's original application. Monitoring will also include a review of the agency's income and expenses as they relate to this project to ensure payment is accurate.

Each funded program will participate in VA's national program monitoring and evaluation as these monitoring procedures will be used to determine successful accomplishment of these housing outcomes for each per diem-funded program.

Applicants with questions regarding the funding from previous Special Need awards should contact the VA Homeless Providers GPD Program Office prior to application.

A full copy of the regulations governing the GPD Program is available at the GPD website at http://www.va.gov/HOMELESS/GPD.asp.

For Further Information Contact: Mr. Jeffery L. Quarles, Director, VA Homeless Providers Grant and Per Diem Program, Department of Veterans Affairs, 10770 N 46th Street, Suite C-200, Tampa, Florida, 33617; (toll-free) 1-(877) 332-0334.

Signing Authority

The Secretary of Veterans Affairs, or designee, approved this document and authorized the undersigned to sign and submit the document to the Office of the Federal Register for publication electronically as an official document of VA. Peter M. O'Rourke approved this document on May 9, 2018, for publication.

Dated: May 10, 2018.
Michael Shores,
Director, Regulation Policy & Management, Office of the Secretary, Department of Veterans Affairs.

[FR Doc. 2018-10311 Filed 5-14-18; 8:45 am]

BILLING CODE 8320-01-P